ENVIRONMENTAL PROTECTION AGENCY

[OPPTS-00332; FRL-6828-6]

National Advisory Committee for Acute Exposure Guideline Levels for Hazardous Substances; Notice of Public Meeting

AGENCY: Environmental Protection Agency (EPA).

ACTION: Notice.

SUMMARY: A meeting of the National Advisory Committee for Acute Exposure Guideline Levels for Hazardous Substances (NAC/AEGL Committee) will be held on April 9-11, 2002, in Washington, DC. At this meeting, the NAC/AEGL Committee will address, as time permits, the various aspects of the acute toxicity and the development of proposed Acute Exposure Guideline Levels (AEGLs) for various chemicals and to discuss comments on these chemicals.

DATES: A meeting of the NAC/AEGL Committee will be held from 10 a.m. to 5 p.m. on April 9, 2002; from 8:30 a.m. to 5 p.m. on April 10, 2002; and from 8:30 a.m. to noon on April 11, 2002.

ADDRESSES: The meeting will be held at the U. S. Department of Transportation, DOT Headquarters, Nassif Bldg., Rooms 6200-6204, 400 7th St., SW., Washington, DC. (L'Enfant Plaza Metro stop). Visitors should bring a photo identification for entry into the building and should contact the Designated Federal Officer under FOR FURTHER INFORMATION CONTACT to have their names added to a security entry list. Visitors must enter the building at the Southwest Entrance/Visitor's Entrance, 7th & E Sts. Quadrant.

FOR FURTHER INFORMATION CONTACT: For general information contact: Barbara Cunningham, Acting Director, Environmental Assistance Division (7408M), Office of Pollution Prevention and Toxics, Environmental Protection Agency, 1200 Pennsylvania Ave., NW., Washington, DC 20460; telephone number: (202) 554-1404; e-mail address: TSCA-Hotline@epa.gov.

For technical information contact: Paul S. Tobin, Designated Federal Officer (DFO), Office of Prevention, Pesticides and Toxic Substances (7406M), 1200 Pennsylvania Ave., NW., Washington, DC 20460; telephone number: (202) 564-8557; e-mail address: tobin.paul@epa.gov.

SUPPLEMENTARY INFORMATION:

I. General Information

A. Does this Action Apply to Me?

This action is directed to the public in general. This action may be of particular interest to anyone who may be affected if the AEGL values are adopted by government agencies for emergency planning, prevention, or response programs, such as EPA's Risk Management Program under the Clean Air Act and Amendments Section 112r. It is possible that other Federal agencies besides EPA, as well as State agencies and private organizations, may adopt the AEGL values for their programs. As such, the Agency has not attempted to describe all the specific entities that may be affected by this action. If you have any questions regarding the applicability of this action to a particular entity, consult the DFO listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPPTS-00332. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

II. Agenda

At this meeting, the NAC/AEGL Committee will address, as time permits:

1. The various aspects of the acute toxicity and the development of AEGL values for acrylic acid, allyl alcohol, ethyleneneimine, furan, methyl mercaptan, phosphorus trichloride, piperidine, propyleneimine, toluene, and trichloroethylene.

2. The proposed 10 minute AEGL values for ammonia, chloroform, fluorine, nitric acid, nitric oxide, and nitrogen dioxide.

3. The comments from the National Academy of Sciences Subcommittee for AEGLs for allyl alcohol, allyl amine, crotonladehyde, cyclohexylamine, diborane, ethylenediamine, ethyleneimine, furan, G-Agents, hydrogen sulfide, iron pentacarbonyl, nickel carbonyl, perchloromethyl mercaptan, phosgene, propyleneimine, and VX.

4. The comments from the notice published in the Federal Register of February 15, 2002 (67 FR 7164-7176) and the decision to raise to interim status the AEGL values for boron trifluoride dimethyl ether, carbon tetrachloride, chlorine, chlorine dioxide, methyl nonafluorobutyl ether (HFE-7100 component), methyl nonafluoroisobutyl ether (HFE-7100 component), propylene oxide, and uranium hexafluoride.

5. The overview for benzene, methylene chloride, and phenol.

III. Meeting Procedures

For additional information on the scheduled meeting, the agenda of the NAC/AEGL Committee, or the submission of information on chemicals to be discussed at the meeting, contact the DFO listed under FOR FURTHER INFORMATION CONTACT.

The meeting of the NAC/AEGL Committee will be open to the public. Oral presentations or statements by interested parties will be limited to 10 minutes. Interested parties are encouraged to contact the DFO to schedule presentations before the NAC/AEGL Committee. Since seating for outside observers may be limited, those wishing to attend the meeting as observers are also encouraged to contact the DFO at the earliest possible date to ensure adequate seating arrangements. Inquiries regarding oral presentations and the submission of written statements or chemicalspecific information should be directed to the DFO.

IV. Future Meetings

Another meeting of the NAC/AEGL Committee is tentatively scheduled for June 17-19, 2002.

List of Subjects

Environmental protection, Chemicals, Hazardous substances, Health.

Dated: March 18, 2002.
William H. Sanders, III,
Director, Office of Pollution Prevention and Toxics.

[FR Doc. 02-7499 Filed 3-27-02; 8:45 am]

BILLING CODE 6560-50-S